DEPARTMENT OF TRANSPORTATION

Federal Aviation Administration

Office of Commercial Space Transportation; Notice of Intent To Prepare an Environmental Impact Statement (EIS), Open a Public Scoping Period, and Conduct a Public Scoping Meeting

AGENCY: The Federal Aviation Administration (FAA) is the lead Federal agency.

ACTION: Notice of Intent to Prepare an EIS, Open a Public Scoping Period, and Conduct a Public Scoping Meeting.

SUMMARY: This Notice provides information to Federal, State, and local agencies, Native American tribes, and other interested persons regarding the FAA's intent to prepare an EIS for Space Exploration Technologies' (SpaceX's) proposal to launch the Falcon 9 and Falcon Heavy orbital vertical launch vehicles from a private site located in Cameron County, Texas. Under the Proposed Action, SpaceX proposes to construct a vertical launch area and a control center area to support up to 12 commercial launches per year. The vehicles to be launched include the Falcon 9, Falcon Heavy (up to two per year), and a variety of smaller reusable suborbital launch vehicles. SpaceX would be required to apply for the appropriate launch licenses and/or experimental permits to be issued by the FAA. The FAA will prepare the EIS in accordance with the National Environmental Policy Act of 1969 (NEPA; 42 United States Code [U.S.C.] 4321 et seq.), the Council on Environmental Quality Regulations for Implementing the Procedural Provisions of NEPA (40 Code of Federal Regulations [CFR] parts 1500-1508), and FAA Order 1050.1E, Change 1, Environmental Impacts: Policies and Procedures, as part of its licensing and permitting process.

DATES: The FAA invites interested agencies, organizations, Native American tribes, and members of the public to submit comments or suggestions to assist in identifying significant environmental issues and in determining the appropriate scope of the EIS. The public scoping period starts with the publication of this notice in the Federal Register. To ensure sufficient time to consider issues identified during the public scoping period, comments should be submitted to Ms. Stacey M. Zee, FAA Environmental Protection Specialist, by one of the methods listed below no later than May 30, 2012. All comments will receive the same attention and consideration in the preparation of the EIS.

ADDRESSES: Comments, statements, or questions concerning scoping issues or the EIS process should be mailed to: Ms. Stacey M. Zee, FAA Environmental Protection Specialist, SpaceX EIS c/o Cardno TEC Inc., 275 West Street, Suite 110, Annapolis, MD 21409. Comments can also be sent by email to faaspacexeis@cardnotec.com or by fax to (410) 990-0455.

SUPPLEMENTARY INFORMATION:

Background

The FAA is preparing an EIS to analyze the potential environmental impacts of SpaceX's proposal to launch orbital and suborbital launch vehicles from a private site in Cameron County in southern Texas. The EIS will consider the potential environmental impacts of the Proposed Action and reasonable alternatives, including the No Action Alternative. The successful completion of the environmental review process does not guarantee that the FAA would issue launch licenses and/or experimental permits to SpaceX. The project must also meet all FAA safety, risk, and indemnification requirements.

Proposed Action

The Proposed Action is for the FAA to issue launch licenses and/or experimental permits to SpaceX that would allow SpaceX to launch the Falcon 9 and Falcon Heavy orbital vertical launch vehicles and a variety of reusable suborbital launch vehicles from a launch site on privately-owned property in Cameron County, Texas. The Falcon 9 orbital vertical launch vehicle is a medium-lift class launch vehicle with a gross lift-off weight of approximately 1,000,000 pounds (lbs) with a maximum length of 230 feet (ft). The Falcon 9 uses liquid oxygen (LOX) and highly refined kerosene, also known as rocket propellant-1 or refined petroleum-1 (RP-1), as propellants to carry payloads into orbit. The Falcon Heavy is similar to the Falcon 9, except it has an additional two boosters “strapped on,” each booster being almost identical to the Falcon 9 first stage core. The Falcon Heavy is a heavy lift class launch vehicle with a gross lift-off weight of approximately 3,400,000 lbs. It has an overall maximum length of approximately 230 ft.

A reusable suborbital launch vehicle could consist of a Falcon 9 Stage 1 tank with a maximum propellant (RP-1 and LOX) load of approximately 6,900 gallons.

As part of the Proposed Action, SpaceX proposes to construct a vertical launch area and a control center area. The proposed vertical launch area site is currently undeveloped and is located directly adjacent to the eastern terminus of Texas State Highway 4 (Boca Chica Boulevard) and approximately 3 miles north of the Mexican border on the Gulf Coast. It is located approximately 5 miles south of Port Isabel and South Padre Island. At the vertical launch area, the new facilities required would include: an integration- and processing-hangar, a launch pad and stand with its associated flame duct, propellant storage and handling areas, a workshop and office area, and a warehouse for parts storage.

The control center area would be located inland to the west of the vertical launch area and would include: A control center building and a payload processing facility; it might also include a launch vehicle preparation hangar and satellite fuels storage. All facilities would be constructed on private land owned or leased by SpaceX. The development of access and supporting utility infrastructure for the vertical launch area and the control center area may occur on lands outside that which is owned or leased by SpaceX.

Operations would consist of up to 12 launches per year with a maximum of two Falcon Heavy launches. All Falcon 9 and Falcon Heavy launches would be expected to have commercial payloads, including satellites or experimental payloads. In addition to standard payloads, the Falcon 9 and Falcon Heavy may also carry a capsule, such as the SpaceX Dragon capsule. All launch trajectories would be to the east over the Gulf of Mexico.

The potential environmental impacts of all proposed construction activities will be analyzed in the EIS, in addition to the impacts from operating the facilities and launching orbital and suborbital launch vehicles. The EIS will evaluate the potential environmental effects associated with: air quality; noise and compatible land use; land use, including Section 4(f) properties and Farmlands; coastal resources; biological resources, including threatened and endangered species; water resources, including surface waters and wetlands, groundwater, floodplains, and water quality; historical, architectural, archaeological, and cultural resources; light emissions and visual resources; hazardous materials, pollution prevention, and solid waste; infrastructure and utilities; and socioeconomics, environmental justice, and children's environmental health and safety. The analysis will include an evaluation of the potential direct and indirect impacts, and will account for cumulative impacts from other relevant activities in the area of Cameron County, Texas.

Alternatives

Alternatives under consideration include the Proposed Action and the No Action Alternative. Under the No Action Alternative, the FAA would not issue a license or experimental permit to SpaceX. Based on comments received during the scoping period, the FAA may propose additional alternatives.

Scoping Meetings

A public scoping meeting will be held to solicit input from the public on potential issues that may need to be evaluated in the EIS. The scoping meeting will be held on May 15, 2012 from 5 p.m. to 8 p.m., at the International Technology, Education and Commerce Center (ITEC Center), located at 301 Mexico Blvd. G-1, Brownsville, Texas 78520. The meeting format will include an open-house workshop from 5 p.m. to 6 p.m. The FAA will provide an overview of the environmental process from 6 p.m. to 6:15 p.m. followed by a public comment period from 6:15 p.m. to 8 p.m.

Issued in Washington, DC on April 3, 2012.
Glenn Rizner,
Deputy Manager, Space Transportation Development Division.

[FR Doc. 2012-8556 Filed 4-9-12; 8:45 am]

BILLING CODE 4910-13-P